ENVIRONMENTAL PROTECTION AGENCY

[FRL-9943-70-OA]

Notification of a Public Teleconference of the Clean Air Scientific Advisory Committee Particulate Matter Panel

AGENCY: Environmental Protection Agency (EPA).

ACTION: Notice.

SUMMARY: The Environmental Protection Agency (EPA) Science Advisory Board (SAB) Staff Office announces a public teleconference of the Clean Air Scientific Advisory Committee (CASAC) Particulate Matter (PM) Panel to peer review the EPA's Draft Integrated Review Plan (IRP) for the National Ambient Air Quality Standards (NAAQS) for Particulate Matter.

DATES: The public teleconference will be held on Monday, May 23, 2016, from 2:00 p.m. to 6:00 p.m. (Eastern Time).

ADDRESSES: The public teleconference will be conducted by telephone only.

FOR FURTHER INFORMATION CONTACT: Any member of the public wishing to obtain information concerning the public meeting may contact Mr. Aaron Yeow, Designated Federal Officer (DFO), EPA Science Advisory Board Staff Office (1400R), U.S. Environmental Protection Agency, 1200 Pennsylvania Avenue NW., Washington, DC 20460; by telephone/voice mail at (202) 564-2050 or at yeow.aaron@epa.gov. General information about the CASAC, as well as any updates concerning the meeting announced in this notice, may be found on the EPA Web site at http://www.epa.gov/casac.

SUPPLEMENTARY INFORMATION: The CASAC was established pursuant to the Clean Air Act (CAA) Amendments of 1977, codified at 42 U.S.C. 7409D(d)(2), in part to review air quality criteria and NAAQS and recommend any new NAAQS and revisions of existing criteria and NAAQS as may be appropriate. The CASAC is a Federal Advisory Committee chartered under the Federal Advisory Committee Act (FACA), 5 U.S.C., App. 2. Pursuant to FACA and EPA policy, notice is hereby given that the CASAC PM Panel will hold a public meeting to peer review EPA's Draft Integrated Review Plan for the National Ambient Air Quality Standards for Particulate Matter. The CASAC PM Panel and the CASAC will comply with the provisions of FACA and all appropriate SAB Staff Office procedural policies.

Section 109(d)(1) of the CAA requires that the Agency periodically review and revise, as appropriate, the air quality criteria and the NAAQS for the six “criteria” air pollutants, including PM. EPA is currently reviewing the NAAQS for PM. Accordingly, the SAB Staff Office solicited nominations for the CASAC PM Panel on February 4, 2015 (80 FR 6086-6089). Membership of the Panel is listed at https://yosemite.epa.gov/sab/sabpeople.nsf/WebExternalSubCommitteeRosters?OpenView&committee=CASAC&subcommittee=CASAC Particulate Matter Review Panel (2015-2018).

EPA will develop several documents in support of its review of the NAAQS for PM, drafts of which will be subject to review or consultation by the CASAC panel. These documents include the Draft Integrated Review Plan for the National Ambient Air Quality Standards for Particulate Matter; an Integrated Science Assessment (ISA); Health and Welfare Risk and Exposure Assessment (REA) Planning Documents; Health and/or Welfare REAs, as warranted; and a Policy Assessment (PA). The purpose of the teleconference announced in this notice is for the CASAC PM Panel to peer review the Draft Integrated Review Plan for the National Ambient Air Quality Standards for Particulate Matter.

Availability of Meeting Materials: Agendas and materials in support of this meeting will be placed on the EPA Web site at http://www.epa.gov/casac in advance of the meeting. For technical questions and information concerning the Draft PM Integrated Review Plan, please contact Dr. Scott Jenkins of EPA's Office of Air and Radiation at (919) 541-1167 or jenkins.scott@epa.gov.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the CASAC will have the most impact if it provides specific scientific or technical information or analysis for CASAC panels to consider or if it relates to the clarity or accuracy of the technical information. Members of the public wishing to provide comment should contact the DFO directly.

Oral Statements: In general, individuals or groups requesting an oral presentation at a teleconference will be limited to three minutes. Each person making an oral statement should consider providing written comments as well as their oral statement so that the points presented orally can be expanded upon in writing. Interested parties should contact Mr. Aaron Yeow, DFO, in writing (preferably via email) at the contact information noted above by May 16, 2016, to be placed on the list of public speakers.

Written Statements: Written statements should be supplied to the DFO via email at the contact information noted above by May 16, 2016, so that the information may be made available to the Panel members for their consideration. It is the SAB Staff Office general policy to post written comments on the Web page for the advisory meeting or teleconference. Submitters are requested to provide an unsigned version of each document because the SAB Staff Office does not publish documents with signatures on its Web sites. Members of the public should be aware that their personal contact information, if included in any written comments, may be posted to the CASAC Web site. Copyrighted material will not be posted without explicit permission of the copyright holder.

Accessibility: For information on access or services for individuals with disabilities, please contact Mr. Aaron Yeow at (202) 564-2050 or yeow.aaron@epa.gov. To request accommodation of a disability, please contact Mr. Yeow preferably at least ten days prior to each meeting to give EPA as much time as possible to process your request.

Dated: March 8, 2016.
Thomas H. Brennan,
Deputy Director, EPA Science Advisory Staff Office.

[FR Doc. 2016-05758 Filed 3-11-16; 8:45 am]

BILLING CODE 6560-50-P